FEDERAL COMMUNICATIONS COMMISSION

[CG Docket Nos. 03-123 and 10-51; FCC 11-104]

Telecommunications Relay Services and Speech-to-Speech Services for Individuals With Hearing and Speech Disabilities; Structure and Practices of the Video Relay Service Program

AGENCY: Federal Communications Commission.

ACTION: Notice; approval of new rates.

SUMMARY: In this document, the Commission extends the current tiered, per-minute video relay service (“VRS”) compensation rates, and adopts per-minute compensation rates for the July 1, 2011 through June 30, 2012 Interstate Telecommunications Relay Services (“TRS”) Fund (“Fund”) year for all other forms of TRS. This action is necessary because the rates for the previous Fund year expired on June 30, 2010. The intended effect of this action is to establish reimbursement rates for TRS providers and an appropriate funding requirement for the 2011-2012 Fund year.

DATES: The new rates became effective July 1, 2011.

FOR FURTHER INFORMATION CONTACT: Diane Mason, Consumer and Governmental Affairs Bureau, Disability Rights Office at (202) 418-7126 (voice), (202) 418-7828 (TTY), or e-mail at Diane.Mason@fcc.gov.

SUPPLEMENTARY INFORMATION: This is a summary of the Commission's Telecommunications Relay Services and Speech-to-Speech Services for Individuals with Hearing and Speech Disabilities; Structure and Practices of the Video Relay Service Program, Order, document FCC 11-104, adopted June 30, 2011, and released June 30, 2011 in CG Docket numbers 03-123 and 10-51 (Order). The full text of document FCC 11-104 and copies of any subsequently filed documents in this matter will be available for public inspection and copying during regular business hours at the FCC Reference Information Center, Portals II, 445 12th Street, SW., Room CY-A257, Washington, DC 20554. Document FCC 11-104 and copies of subsequently filed documents in this matter may also be purchased from the Commission's duplicating contractor, BCPI, Inc., Portals II, 445 12th Street, SW., Room CY-B402, Washington, DC 20554. Customers may contact BCPI, Inc. via its Web site http://www.bcpiweb.com or by calling (202) 488-5300. To request materials in accessible formats for people with disabilities (Braille, large print, electronic files, audio format), send an e-mail to fcc504@fcc.gov or call the Consumer and Governmental Affairs Bureau at (202) 418-0530 (voice) or (202) 418-0432 (TTY). Document FCC 10-115 can also be downloaded in Word or Portable Document Format (PDF) at: http://www.fcc.gov/cgb/dro/trs.html#orders.

Synopsis

In document FCC 11-104, the Commission adopts per-minute compensation rates to be paid from the Fund for the 2011-12 Fund year for all forms of TRS. Except for the rates for video relay service VRS, these rates are based on the proposals of the Fund administrator. For VRS, the Commission adopts, until further notice, the current interim rates that were adopted for the 2010-11 Fund year. The VRS rates adopted herein will be in effect on an interim basis until the Commission completes its examination of VRS rates and compensation as part of the 2010 VRS NOI proceeding. See Structure and Practices of the Video Relay Service Program, CG Docket No. 10-51, Notice of Inquiry, published at 75 FR 41863, July 19, 2010 (2010 VRS NOI).

As of July 1, 2011, the per-minute rates for TRS shall be: $1.8611 for interstate traditional TRS; $2.9921 for Speech-to-Speech (STS) service; $1.7630 for captioned telephone service (CTS) and Internet-Protocol (IP) CTS; and $1.2920 for IP Relay. The interim rates for VRS shall continue to be: $6.2390 for Tier I, $6.2335 for Tier II, and $5.0668 for Tier III. Based on the adoption of these rates and the Fund administrator's proposals for additional funding requirements, the Commission adopts a carrier contribution factor of 0.01058, and a funding requirement of $740,399,393.56 for the period of July 1, 2011 through June 30, 2012.

On March 7, 2011, the Commission awarded a contract to Rolka Loube Saltzer Associates, LLC (“RLSA”) to administer the Fund beginning July 1, 2011. RLSA's administrative expenses of $965,000 under the contract are included in the previous Fund administrator's proposed funding requirement for the 2011-12 Fund year.

In addition to the per-minute costs of service and administrator costs, the Commission adopts additional funding for the expenses of the revenue data collection agent of $60,000, expenses related to the Interstate TRS Advisory Council of $55,000, expenses related to an audit of the Fund administrator of $50,000, the contractual costs of $385,000 for the iTRS database administrator in its funding requirement proposal, and a $10,000,000 funding requirement for the National Deaf-Blind Equipment Distribution Program (NDBEDP) mandated by Congress.

Paperwork Reduction Act

This document does not contain new or modified information collection requirements subject to the Paperwork Reduction Act of 1995, Pub. L. 104-13. In addition, therefore, it does not contain any new or modified information collection burden for small business concerns with fewer than 25 employees, pursuant to the Small Business Paperwork Relief Act of 2002, Pub. L. 107-198, see 44 U.S.C. 3506(c)(4).

Congressional Review Act

The Commission will send a copy of document FCC 11-104 in a report to be sent to Congress and the Government Accountability Office pursuant to the Congressional Review Act. See 5 U.S.C. 801(a)(1)(A).

Final Regulatory Flexibility Certification

The Regulatory Flexibility Act of 1980, as amended (“RFA”) requires that a final regulatory flexibility analysis be prepared for notice-and-comment rule making proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. 5 U.S.C. 605(b). A “small business concern” is one which: (1) Is independently owned and operated; (2) is not dominant in its field of operation; and (3) satisfies any additional criteria established by the Small Business Administration (“SBA”). 15 U.S.C. 632.

In document FCC 11-104, the Commission adopts per-minute compensation rates for the Interstate Telecommunications Relay Services Fund for the 2011-2012 Fund year for all forms of TRS except for video relay service (“VRS”). The current interim VRS rates adopted for the 2010-2011 Fund year will be extended based on the proposal of the Fund administrator, as well as the record in the VRS Rate NPRM proceeding, published at 76 FR 24442, May 2, 2011. As of July 1, 2011, the interim rates for VRS shall continue to be: $6.2390 for Tier I, $6.2335 for Tier II, and $5.0668 for Tier III. The rates for the other forms of TRS shall be: $1.8611 for interstate traditional TRS; $2.9921 for Speech-to-Speech service (“STS”); $1.7630 for captioned telephone service (“CTS”) and Internet Protocol (“IP”) CTS; and $1.2920 for IP Relay.

The VRS rates adopted in document FCC 11-104 are interim rates, and the Commission will continue to examine VRS compensation as part of the 2010 VRS NOI proceeding. Based on the adoption of these rates for VRS as well as for the other forms of TRS, and NECA's proposals for additional funding requirements, the Commission adopts a carrier contribution factor of 0.01058, and a funding requirement of $740,399,393.56 for the 2011-2012 Fund year.

In regard to VRS, the Commission sought comment on extending the current VRS rates for the upcoming Fund year in the VRS Rate NPRM proceeding. In the attached initial regulatory flexibility certification, the Commission concluded that its proposal would not impose a financial burden on entities, including small businesses, because eligible entities would continue to be promptly reimbursed from the Interstate TRS Fund at the same rate at which they are currently reimbursed for VRS. No commenters opposed this proposal or the associated initial regulatory flexibility certification.

In document FCC 11-104, the Commission adopts its proposal to extend VRS rates, and determines that this extension will not place any financial burden on VRS entities, including small VRS businesses, because these entities will continue to be promptly reimbursed from the Interstate TRS Fund at the same rate at which they are currently reimbursed.

In addition, with respect to 2011-2012 rates adopted in document FCC 11-104 to apply to entities other than VRS, i.e. to TRS, STS, CTS, IP CTS, and IP Relay entities, the rates for the latter group of entities are based on the same methodology used in adopting rates for the last Fund year. Therefore, the Commission determines that there is no financial burden caused by the adoption of the rates for TRS, STS, CTS, IP CTS, and IP Relay for entities, including small businesses, because these entities will also continue to be promptly reimbursed from the Interstate TRS Fund at the same rate at which they are currently reimbursed.

Therefore, the Commission certifies that the proposal in document FCC 11-104 does not have a significant economic impact on a substantial number of small entities.

The Commission will send a copy of the document FCC 11-104, including a copy of the Final Regulatory Flexibility Certification, to the Chief Counsel for Advocacy of the SBA.

Ordering Clauses

Pursuant to the authority contained in section 225 of the Communications Act of 1934, as amended, 47 U.S.C. 225, and 64.604(c)(5)(iii) of the Commission's rules, 47 CFR 64.604(c)(5)(iii), document FCC 11-104 Is Adopted.

The TRS Fund Administrator shall compensate providers of interstate traditional TRS for the July 1, 2011 through June 30, 2012 Fund year, at the rate of $1.8611 per completed interstate conversation minute.

The TRS Fund Administrator shall compensate providers of interstate Speech-to-Speech service for the July 1, 2011 through June 30, 2012 Fund year, at the rate of $2.9921 per completed interstate conversation minute.

The TRS Fund Administrator shall compensate providers of interstate captioned telephone service and intrastate and interstate IP captioned telephone service for the July 1, 2011 through June 30, 2012 Fund year, at the rate of $1.7630 per completed conversation minute.

The TRS Fund Administrator shall compensate providers of intrastate and interstate IP Relay service for the July 1, 2011 through June 30, 2012 Fund year, at the rate of $1.2920 per completed conversation minute.

Beginning July 1, 2011, the TRS Fund administrator shall continue to compensate eligible providers of intrastate and interstate video relay service at the rates of $6.2390 for the first 50,000 monthly minutes (Tier I), $6.2335 for monthly minutes between 50,001 and 500,000 (Tier II), and $5.0668 for minutes above 500,000 (Tier III) per completed conversation minute until otherwise directed by the Commission.

The Interstate TRS carrier contribution factor shall be 0.01058, and the funding requirement shall be $740,399,393.56, and the, for the July 1, 2011 through June 30, 2012 Fund year.

Federal Communications Commission.
Marlene H. Dortch,
Secretary.

[FR Doc. 2011-18744 Filed 7-22-11; 8:45 am]

BILLING CODE 6712-01-P